DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 25, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Animal and Plant Health Inspection Service

Title: Brucellosis and Bovine tuberculosis: Importation of Cattle and Bison

OMB Control Number: 0579-0442.

Summary of Collection: The Animal Health Protection Act (AHPA) of 2002 is the primary Federal law governing the protection of animal health. The law gives the Secretary of Agriculture broad authority to detect, control, or eradicate pests or diseases of livestock or poultry. The Secretary may also prohibit or restrict import or export of any animal or related material if necessary to prevent the spread of any livestock or poultry pest or disease. The AHPA is contained in title X, subtitle E, sections 10401-18 of Public Law 107-171, May 13, 2002, the Farm Security and Rural Investment Act of 2002 [7 U.S.C. 8301 et. seq.]

Disease prevention is the most effective method for maintaining a healthy animal population and for enhancing the United States' ability to compete in the world market of animal and animal product trade. Tuberculosis (TB) is a contagious disease of both animals and humans. Bovine TB, caused by M. bovis, can be transmitted from livestock to humans and other animals. Brucellosis is an infectious disease of animals and humans caused by the bacteria of the genus Brucella. The disease is characterized by abortions and impaired fertility in its principal animal hosts. Brucellosis is mainly a disease of cattle, bison, and swine; Brucella abortus is associated with the disease in cattle and bison. There is no economically feasible treatment for brucellosis in livestock.

Need and Use of the Information: APHIS uses the following information activities to prevent importation of cattle and bison infected with or exposed to TB and brucellosis:

Request for Regional Classification;

Application for Recognition of Regional Classification;

Request for Additional Information about a Region;

Maintaining Classification and Reclassification; and

Official Identification and Certification

Failure to collect this information would make it much more difficult for APHIS to prevent, detect, control, and eradicate TB and brucellosis from the United States. Outbreaks of the diseases would have severe economic consequences on the U.S. cattle industry.

Description of respondents: Business or other for-profit; Federal Government.

Number of Respondents: 21.

Frequency of Responses: Reporting: On occasion.

Total Burden Hours: 907.

Ruth Brown,
Departmental Information Collection Clearance Officer.

[FR Doc. 2023-18338 Filed 8-24-23; 8:45 am]

BILLING CODE 3410-34-P